DEPARTMENT OF TRANSPORTATION

Federal Aviation Administration

14 CFR Part 71

[Docket No. FAA-2024-2559; Airspace Docket No. 24-AEA-11]

RIN 2120-AA66

Amendment of Class D and Class E Airspace; Morgantown, WV: Withdrawal

AGENCY: Federal Aviation Administration (FAA), DOT.

ACTION: Proposed rule, withdrawal.

SUMMARY: This action withdraws the notice of proposed rulemaking (NPRM) published in the Federal Register on March 31, 2025, proposing to amend Class D and Class E airspace at Morgantown, WV. The FAA has determined that withdrawal of that NPRM is warranted as new airspace data have been received which significantly change the requirements for the proposed airspace. FAA expects to publish a new NPRM to amend the Class D and Class E airspace at Morgantown, WV, after assessing the new data.

DATES: The proposed rule published in the Federal Register on March 31, 2025 (90 FR 14221) is withdrawn as of June 9, 2025.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published an NPRM in the Federal Register on March 31, 2025 (90 FR 14221) under Docket No. FAA-2024-2559 proposing to amend 14 CFR part 71 by modifying the Class D and Class E surface airspace, and Class E airspace extending upward from 700 feet above the surface at Morgantown Municipal Airport-Walter L. Bill Hart Field, Morgantown, WV. Subsequent to publication, new airspace data was received changing the airspace requirements. Therefore, the FAA is withdrawing the NPRM, and expects to publish a new NPRM after fully evaluating the new data to amend the Class D and Class E surface airspace, and Class E airspace extending upward from 700 feet above the surface at Morgantown Municipal Airport-Walter L. Bill Hart Field, Morgantown, WV, to support the new instrument procedures being developed.

List of Subjects in 14 CFR Part 71

Airspace, Incorporation by reference, Navigation (air).

The Withdrawal

Accordingly, pursuant to the authority delegated to me, the NPRM for Docket No. FAA-2025-05492, Airspace Docket No. 24-AEA-11, as published in the Federal Register on March 31, 2025 (90 FR 14221), is hereby withdrawn.

Issued in Fort Worth, TX, on June 3, 2025.
Dallas W. Lantz,
Acting Manager, Operations Support Group, ATO Central Service Center.

[FR Doc. 2025-10375 Filed 6-6-25; 8:45 am]

BILLING CODE 4910-13-P